DEPARTMENT OF HEALTH AND HUMAN SERVICES

[Document Identifier OS-0937-0025]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 23, 2019.

ADDRESSES: Submit your comments to Sherrette.Funn@hhs.gov or by calling (202) 795-7714.

FOR FURTHER INFORMATION CONTACT: When submitting comments or requesting information, please include the document identifier 0937-0025-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Information Collection Request Title: The Commissioned Corps of the U.S. Public Health Service application.

Abstract: The principal purpose for collecting the information is to permit HHS to determine eligibility for appointment of applicants into the Commissioned Corps of the U.S. Public Health Service (Corps). The Corps is one of the seven Uniformed Services of the United States (37 U.S.C. 101(3)), and appointments in the Corps are made pursuant to 42 U.S.C. 204 et seq. and 42 CFR 21.58. The application consists of forms PHS-50, PHS-1813, and the Commissioned Corps Personal Statement.

Likely Respondents: Candidates/Applicants to the Commissioned Corps of the U.S. Public Health Service.

Total Estimated Annualized Burden—Hours
Form name | Type of of respondents | Number of respondents | Number of responses per respondent | Average burden per response (in hours) | Total burden hours
Prequalification Questionnaire | Interested Health Professionals | 6,000 | 1 | 15/60 | 1500
Form PHS-50 | Health Professionals | 1,000 | 1 | 1.0 | 1000
Form PHS-1813 | References (college professors/teachers) | 4,000 | 1 | 15/60 | 1000
Addendum: Commissioned Corps Personal Statement | Health Professionals | 1,000 |  | 45/60 | 750
Total |  |  |  |  | 4,250

Terry Clark,
Office of the Secretary, Asst Paperwork Reduction Act Reports Clearance Officer.

[FR Doc. 2019-22951 Filed 10-21-19; 8:45 am]

BILLING CODE 4150-49-P